DEPARTMENT OF EDUCATION

[Docket ID ED—2021—OUS—0082]

Request for Information Regarding the Public Service Loan Forgiveness Program

AGENCY: Office of the Under Secretary, U.S. Department of Education.

ACTION: Request for information.

SUMMARY: The U.S. Department of Education (Department) is requesting information in the form of written comments that may include information, research, and suggestions regarding the administration of the Public Service Loan Forgiveness (PSLF) program. The Office of the Under Secretary solicits these comments to identify operational improvements to the PSLF program and to inform determinations about technical improvements, borrower experiences, policy considerations, or other factors that should be considered to improve access to PSLF.

DATES: We must receive your comments on or before September 24, 2021.

ADDRESSES: Submit your response to this request for information (RFI) through the Federal eRulemaking Portal. We will not accept submissions by hand delivery, fax, or email. To ensure that we do not receive duplicate copies, please submit your comments only one time. To ensure that your comments have maximum effect in informing the Department's administration of the PSLF program, we encourage you to clearly identify the question number or topic (e.g., “borrower experience,” “proposed administrative/operational improvement,” and “proposed policy change,”) that each comment addresses.

• Federal eRulemaking Portal: Go to www.regulations.gov to submit your comments electronically. Information on using Regulations.gov, including instructions for accessing agency documents, submitting comments, and viewing the docket, is available on the site under “FAQ.”

• Postal Mail or Commercial Delivery: If you do not have internet access or electronic submission is not possible, you may mail written comments to the Office of the Under Secretary, U.S. Department of Education, 400 Maryland Avenue SW, Room [7E307], Washington, DC 20202. Mailed comments must be postmarked by September 24, 2021, to be accepted.

Privacy Note: The Department's policy is to make all comments received from members of the public available for public viewing in their entirety on the Federal eRulemaking Portal at www.regulations.gov. Therefore, commenters should be careful to include in their comments only information that they wish to make publicly available.

This is a request for information only. This RFI is not a request for proposals (RFP) or a promise to issue an RFP or a notice inviting applications. This RFI does not commit the Department to contract for any supply or service whatsoever. Further, we are not seeking proposals and will not accept unsolicited proposals. The Department will not pay for any information or administrative costs that you may incur in responding to this RFI. The documents and information submitted in response to this RFI become the property of the U.S. Government and will not be returned.

FOR FURTHER INFORMATION CONTACT: Mr. Jean-Didier Gaina, U.S. Department of Education, 400 Maryland Ave. SW, Room 2C172, Washington, DC 20202. Telephone: (202) 453-7551. Email: jean-didier.gaina@ed.gov.

If you use a telecommunications device for the deaf (TDD) or a text telephone (TTY), call the Federal Relay Service (FRS), toll free, at 1-800-877-8339.

SUPPLEMENTARY INFORMATION:

I. Background

It is critical for our Nation to maintain a highly educated public service workforce to serve as teachers, nurses, physicians, servicemembers in our military, social workers, legal aid attorneys, and first responders, and in a wide range of other roles that serve our communities. Concerns about shortages across the public sector and public service workforce have persisted for decades.

In response to these concerns about workforce shortages and rising student debt burdens, Congress enacted the College Cost Reduction and Access Act (Pub. L. 110-84) in 2007, creating a range of new benefits and protections for student loan borrowers, including the PSLF program. PSLF offers loan cancellation for Federal student loan borrowers who make 120 qualifying payments made while engaging in eligible public service work.¹

¹ Under the current rules, borrowers with William D. Ford Federal Direct Loans can make qualifying payments toward PSLF, and borrowers with Federal Family Education Loans (FFEL) can consolidate into Direct Consolidation Loans to become eligible for PSLF.

The Department is committed to addressing the barriers to attaining PSLF and to providing debt relief to public service workers. To that end, the Department has announced its plans to establish negotiated rulemaking committees to prepare proposed regulations for programs authorized under title IV of the Higher Education Act of 1965, as amended (86 FR 28299), including the PSLF program under 34 CFR 685.219. However, the Department recognizes that there may be improvements it can make in the operational administration of the program outside of the regulatory process. Through this RFI, the Department seeks comments from the public to identify such operational opportunities to strengthen the PSLF program. For example, we are interested in ways that we might eliminate administrative barriers to borrowers receiving PSLF. Below, we provide questions to guide responses to this RFI. Although we do not intend to respond to comments received in response to this RFI, public input may inform non-regulatory action by the Department to make this critical program work better for borrowers. Comments with respect to regulatory matters must be made as part of the negotiated rulemaking process.

II. Public Service Loan Forgiveness Program

After Congress enacted the College Cost Reduction and Access Act 14 years ago, the Department promulgated regulations to implement the PSLF program. The Department also entered into a contract with the Pennsylvania Higher Education Assistance Agency (d/b/a FedLoan Servicing) to serve as the sole specialty student loan servicer handling borrowers who signal intent to pursue PSLF. Under 34 CFR 685.219, the Department established and subsequently revised the criteria a borrower must satisfy in order to have debts cancelled under PSLF.

Specifically, these regulations require a student loan borrower to satisfy five elements. To receive PSLF, a borrower must— ²

² https://studentaid.gov/manage-loans/forgiveness-cancellation/public-service.

• Be employed by a U.S. Federal, State, local, or Tribal government or not-for-profit organization; ³

³ See 34 CFR 685.219 for the complete definition of “public service organization.”

• Work full-time for that agency or organization or the equivalent of full-time across multiple agencies or organizations;

• Have Direct Loans (or consolidate other Federal student loans into a Direct Loan);

• Repay those loans under an income-driven repayment or standard repayment plan; and

• Make 120 qualifying payments.

From 2007 through 2012, public service workers with student debt tracked their own progress toward meeting the requirements for PSLF. When borrowers working in public service had questions about eligibility, the Department's servicers were borrowers' primary source of information about PSLF. Beginning in 2012, the Department offered student loan borrowers the opportunity to submit an Employer Certification Form (ECF) as a way for borrowers to provide documentation of qualifying employment throughout their service and to ensure their employer was a qualifying employer. In November 2020, the Department combined the ECF into a single application that also allows borrowers to have their status checked for PSLF and Temporary Expanded PSLF (TEPSLF) (Pub. L. 115-141), described below. As of November 30, 2020, student loan borrowers had submitted nearly 5 million individual ECFs.⁴ As of April 30, 2021, another 391,333 combined applications were submitted.⁵

⁴ https://studentaid.gov/data-center/student/loan-forgiveness/pslf-data.

⁵ https://studentaid.gov/data-center/student/loan-forgiveness/pslf-data.

On October 1, 2017, the first public service workers with student debt became eligible to receive PSLF. Since that time, the Department has discharged $452,691,032 in student debt owed by 5,467 individual public service workers as of April 30, 2021.⁶

⁶ https://studentaid.gov/data-center/student/loan-forgiveness/pslf-data.

However, to date nearly 98 percent of student loan borrowers who have applied for PSLF did not receive forgiveness at the time of their application, however the majority of these borrowers have made some progress toward cancellation.⁷ In response to the problems borrowers have faced while trying to access PSLF, the Department's Federal Student Aid office has started taking important steps to make improvements to the program.⁸ Lump-sum payments and prepayments, which would not have previously counted for the purposes of PSLF, will now count toward borrowers' PSLF qualifying payments for up to 12 months. FSA also launched a new PSLF Help Tool in November 2020 to make it easier for borrowers to navigate PSLF to determine their eligibility and, as noted above, created a single form that allows borrowers to certify their employment and apply for PSLF and TEPSLF.⁹

⁷ https://studentaid.gov/data-center/student/loan-forgiveness/pslf-data.

⁸ https://studentaid.gov/articles/see-whats-new-pslf-program/.

⁹ https://studentaid.gov/pslf/.

In response to the first reports of widespread PSLF application denials, Congress temporarily expanded PSLF to provide debt relief to a broader population of student loan borrowers, establishing TEPSLF. In the three years since TEPLSF was first established, an additional 2,962 public service workers have had approximately $130 million discharged, while more than 96 percent of TEPSLF applications have not resulted in forgiveness.¹⁰

¹⁰ https://studentaid.gov/data-center/student/loan-forgiveness/pslf-data.

III. Solicitation of Comments: Strengthening the Operational Implementation of Public Service Loan Forgiveness

The Department recognizes the importance of making the PSLF requirements as clear as possible for millions of public service workers and is actively working to make improvements to the program's administration. To help inform those efforts, the Department is seeking input from the public on ways to strengthen the operational implementation of PSLF through changes outside of regulations. The deadline for these submissions is September 24, 2021.

The Department encourages comments from individual students and student loan borrowers; organizations representing students and student loan borrowers; labor unions and other organizations representing public service workers; legal services providers and other organizations that provide counseling or direct assistance to student loan borrowers; public service employers; researchers and policy experts; student loan market participants; institutions of higher education; and other members of the public.

The Department is interested in responses to the specific questions below, as well as the general concepts and topics identified as they relate to PSLF. The Department is also interested in responses describing individual student loan borrowers' experiences while working in public service or pursuing PSLF. When responding to this RFI, please address one or more of the following questions:

Public Service & Student Debt

1. What are the direct and indirect effects of student debt on America's public service workforce?

2. What are the direct and indirect benefits of PSLF for America's public service workforce, including the effects of PSLF on individual borrowers, on the labor market, on communities, and on the populations served by public service workers?

3. Does PSLF provide a strong incentive for borrowers to engage in public service work? How are public service workers' employment decisions affected by their debt and by PSLF?

Experiences With Public Service Loan Forgiveness

4. What borrower experiences should the Department and Congress consider when making improvements to PSLF?

5. What features of PSLF are most difficult for borrowers to navigate?

6. What role do loan servicers play in making it easier or harder for borrowers to access PSLF?

7. What barriers prevent public service workers with student debt from pursuing PSLF or receiving loan forgiveness under PSLF?

8. For borrowers who have or had loans other than from the Direct Loan program, what have your experiences been when trying to access or participate in PSLF?

9. How can communications about PSLF requirements be improved?

10. What are the common questions that borrowers have about PSLF?

Opportunities To Strengthen PSLF for Borrowers Who Currently Work in Public Service

11. What operational steps can the Department take to strengthen PSLF and better serve public service workers who currently owe student debt, including borrowers who have already applied for and been denied PSLF?

12. What steps can the Department take to improve borrowers' experiences in applying for PSLF?

13. What steps or improvements can servicers make to improve borrowers' experiences in applying for PSLF?

14. What can the Department do to better partner with employers to ensure that all borrowers know about the benefits of PSLF?

The Effects of the COVID-19 Pandemic on Student Loan Borrowers Working in Public Service

15. How has the COVID-19 pandemic affected borrowers' ability to access PSLF?

16. Are there any considerations about PSLF that the Department should bear in mind as it prepares for the end of the COVID-19 administrative forbearance on Direct Loans?

Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Program Authority: 20 U.S.C. 1087e(m).

Julie Margetta Morgan,
Delegated the authority to perform the functions and duties of the Under Secretary, Senior Advisor, Office of the Under Secretary.

[FR Doc. 2021-15831 Filed 7-23-21; 8:45 am]

BILLING CODE 4000-01-P